DEPARTMENT OF HOUSING AND URBAN DEVELOPMENT

[Docket No. FR-5681-N-03]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Department of Army, Office of the Chief of Staff for Installation Management, 600 Army Pentagon, Room 5A128, Washington, DC, 20310, (571)-256-8145; GSA: Mr. Flavio Peres, General Services Administration, Office of Real Property Utilization and Disposal, 1800 F Street NW., Room 7040 Washington, DC 20405, (202) 501-0084; (This is not toll-free numbers).

Dated: January 10, 2012.
Clifford Taffet,
General Deputy Assistant Secretary for Community Planning and Development.

TITLE V, FEDERAL SURPLUS PROPERTY PROGRAM FEDERAL REGISTER REPORT FOR 01/18/2013

Suitable/Available Properties

Building

New Jersey

Former SSA Trust Fund Bldg.

396 Bloomfield Ave.

Montclair NJ 07042

Landholding Agency: GSA

Property Number: 54201310004

Status: Unutilized

GSA Number: 1-G-NJ-0676

Comments: 7,183 sf.; office; vacant since March 2012

Oregon

Triangle Lake Bldgs.

22650 Mapleton-Junction City Hwy

Cheshire OR 97419

Landholding Agency: GSA

Property Number: 54201240015

Status: Excess

GSA Number: 9-I-OR-0801

Directions: fuel pump bldg.: 220 sf.; vehicle maint. bldg.: 1,526 sf.

Comments: off-site removal only; vacant for 180 mons. or 15 yrs.; conditions unknown

South Carolina

Former US Vegetable Lab

2875 Savannah Hwy

Charleston SC 29414

Landholding Agency: GSA

Property Number: 54201310001

Status: Excess

GSA Number: 4-A-SC-0609AA

Directions: headhouse w/3 greenhouses, storage bins

Comments: 6,400 sf.; lab; 11 yrs. vacant; w/in 100 yr. floodplain/floodway; however is contained; asbestos & lead based paint

Wisconsin

Building 739

East Q St.

Ft. McCoy WI 54656

Landholding Agency: Army

Property Number: 21201310001

Status: Unutilized

Comments: off-site removal only; 3,292 sf.; dining facility; good conditions; transferee must obtain real estate document to remove bldg; contact Army for more info.

Land

Washington

1.8 Ac. of the Richland FB N.

Parking Lot

825 Jadwin Ave.

Richland WA 99723

Landholding Agency: GSA

Property Number: 54201310002

Status: Excess

GSA Number: 9-G-WA-1263

Comments: 1.8; parking lot

[FR Doc. 2013-00701 Filed 1-17-13; 8:45 am]

BILLING CODE 4210-67-P